DEPARTMENT OF COMMERCE

National Oceanic and Atmospheric Administration

[I.D. 092203A]

Pacific Fishery Management Council; Public Meetings

AGENCY: National Marine Fisheries Service (NMFS), National Oceanic and Atmospheric Administration (NOAA), Commerce.

ACTION: Notice of public meetings.

SUMMARY: The Pacific Fishery Management Council's (Council) Coastal Pelagic Species Management Team (CPSMT) and Coastal Pelagic Species Advisory Subpanel (CPSAS) will hold public meetings.

DATES: The CPSMT will meet on Tuesday, October 14, 2003, from 8 a.m. to 12 p.m. The CPSAS will meet on Tuesday, October 14, 2003, from 1 p.m. until business for the day is completed.

ADDRESSES: Both meetings will be held in the large conference room (D-203) at the National Marine Fisheries Service, Southwest Fisheries Science Center, 8604 La Jolla Shores Drive, La Jolla, CA 92037, 858-46-7000.

Council address: Pacific Fishery Management Council, 7700 NE Ambassador Place, Suite 200, Portland, OR 97220-1384.

FOR FURTHER INFORMATION CONTACT: Mr. Dan Waldeck, Pacific Fishery Management Council, (503) 820-2280.

SUPPLEMENTARY INFORMATION: The purpose of the CPSMT meeting is to review the current Pacific sardine biomass estimate and 2004 harvest guideline. The purpose of the CPSAS meeting is to review documents prepared by the CPSMT, notably the Pacific sardine biomass estimate and recommended harvest guideline for the 2004 fishery.

Although non-emergency issues not contained in the CPSMT and CPSAS meeting agendas may come before the committees for discussion, those issues may not be the subject of formal action during this meeting. Action will be restricted to those issues specifically listed in this document and any issues arising after publication of this document that require emergency action under Section 305(c) of the Magnuson-Stevens Fishery Conservation and Management Act, provided the public has been notified of the CPSMT's or CPSAS's intent to take final action to address the emergency.

Special Accommodations

The meeting is physically accessible to people with disabilities. Requests for sign language interpretation or other auxiliary aids should be directed to Ms. Carolyn Porter at 503-820-2280 at least 5 days prior to the meeting date.

Dated: September 22, 2003.
Richard W. Surdi,
Acting Director, Office of Sustainable Fisheries, National Marine Fisheries Service.

[FR Doc. 03-24394 Filed 9-25-03; 8:45 am]

BILLING CODE 3510-22-S